DEPARTMENT OF COMMERCE

National Oceanic and Atmospheric Administration

[Docket No. 070924535-7536-01]

RIN 0648-XC78

Listing Endangered and Threatened Species and Designating Critical Habitat: Petition to List Five Rockfish Species in Puget Sound (Washington) as Endangered or Threatened Species under the Endangered Species Act

AGENCY: National Marine Fisheries Service (NMFS), National Oceanic and Atmospheric Administration (NOAA), Commerce.

ACTION: Notice of finding.

SUMMARY: We, NMFS, have received a petition to list bocaccio (Sebastes paucispinis), canary rockfish (S. pinniger), yelloweye rockfish (S. ruberrimus), greenstripe rockfish (S. elongatus) and redstripe rockfish (S. proriger) as endangered or threatened species under the Endangered Species Act (ESA). We find that the petition does not present substantial scientific or commercial information indicating that the petitioned actions may be warranted.

ADDRESSES: Copies of the petition and related materials are available on the Internet at http://www.nwr.noaa.gov/Other-Marine-Species/PS-Marine-Fishes.cfm, or upon request from the Chief, Protected Resources Division, NMFS, 1201 NE Lloyd Boulevard, Suite 1100, Portland, OR 97232.

FOR FURTHER INFORMATION CONTACT: Dr. Scott Rumsey, NMFS, Northwest Region, (503) 872-2791; or Marta Nammack, NMFS, Office of Protected Resources, (301) 713-1401.

SUPPLEMENTARY INFORMATION:

Background

On April 9, 2007, we received a petition from Mr. Sam Wright (Olympia, Washington) to list Distinct Population Segments (DPSs) of bocaccio, canary rockfish, yelloweye rockfish, greenstripe rockfish, and redstripe rockfish in Puget Sound as endangered or threatened species under the ESA. Copies of this petition are available from NMFS (see ADDRESSES, above).

ESA Statutory and Policy Provisions

Section 4(b)(3) of the ESA contains provisions concerning petitions from interested persons requesting the Secretary of Commerce (Secretary) to list species under the ESA (16 U.S.C. 1533(b)(3)(A)). Section 4(b)(3)(A) requires that, to the maximum extent practicable, within 90 days after receiving such a petition, the Secretary make a finding whether the petition presents substantial scientific or commercial information indicating that the petitioned action may be warranted. Our ESA implementing regulations define Asubstantial information@ as the amount of information that would lead a reasonable person to believe that the measure proposed in the petition may be warranted. In evaluating a petitioned action, the Secretary considers whether the petition contains a detailed narrative justification for the recommended measure, including: past and present numbers and distribution of the species involved, and any threats faced by the species (50 CFR 424.14(b)(2)(ii)); and information regarding the status of the species throughout all or a significant portion of its range (50 CFR 424.14(b)(2)(iii)). In addition to the information presented in a petition, we review other data and publications readily available to our scientists (i.e., currently within agency files) to determine whether it is in general agreement with the information presented in the petition.

Under the ESA, a listing determination may address a species, subspecies, or a DPS of any vertebrate species which interbreeds when mature (16 U.S.C. 1532(15)). On February 7, 1996, we and the U.S. Fish and Wildlife Service adopted a joint policy to clarify the agencies' interpretation of the phrase “Distinct population segment of any species of vertebrate fish or wildlife” (ESA section 3(15)) for the purposes of listing, delisting, and reclassifying a species under the ESA (51 FR 4722). The joint DPS policy established two criteria that must be met for a population or group of populations to be considered a DPS: (1) The population segment must be discrete in relation to the remainder of the species (or subspecies) to which it belongs; and (2) the population segment must be significant to the remainder of the species (or subspecies) to which it belongs. A population segment may be considered discrete if it satisfies either one of the following conditions: (1) It is markedly separated from other populations of the same biological taxon as a consequence of physical, physiological, ecological, or behavioral factors (quantitative measures of genetic or morphological discontinuity may provide evidence of this separation); or (2) it is delimited by international governmental boundaries across which there is a significant difference in exploitation control, habitat management or conservation status. If a population is determined to be discrete, the agency must then consider whether it is significant to the taxon to which it belongs. Considerations in evaluating the significance of a discrete population include: (1) persistence of the discrete population in an unusual or unique ecological setting for the taxon; (2) evidence that the loss of the discrete population segment would cause a significant gap in the taxon's range; (3) evidence that the discrete population segment represents the only surviving natural occurrence of a taxon that may be more abundant elsewhere outside its historical geographic range; or (4) evidence that the discrete population has marked genetic differences from other populations of the species.

A species, subspecies, or DPS is “endangered” if it is in danger of extinction throughout all or a significant portion of its range, and “threatened” if it is likely to become endangered within the foreseeable future throughout all or a significant portion of its range (ESA Sections 3(6) and 3(19), respectively).

Distribution and Life-History Traits of Rockfishes

Rockfishes are a tremendously diverse group of marine fishes (about 102 species worldwide and at least 72 species in the northeastern Pacific (Kendall, 1991)), and are among the most common benthic fish on the Pacific coast of North America (Love et al., 2002). Adult rockfish can be the most abundant fish in various coastal benthic habitats such as relatively shallow subtidal kelp forests, rocky reefs, and rocky outcrops in submarine canyons at depths greater than 300m (Yoklavich, 1998). The life history of rockfish is different than that of most other bony fishes. Whereas most bony fishes fertilize their eggs externally, fertilization and embryo development in rockfishes is internal, and female rockfish give birth to larval young. Larvae are found in surface waters, and may be distributed over a wide area extending several hundred kilometers offshore (Love et al., 2002). Larvae and small juvenile rockfish may remain in open waters for several months being passively dispersed by ocean currents. The dispersal potential for larvae varies by species depending on the length of time larvae remain in the pelagic environment (i.e., “pelagic larval duration”), and the fecundity of females (i.e., the more larval propagules a species produces the greater the potential that some larvae will be transported long distances). Larval rockfish feed on diatoms, dinoflagellates, tintinnids, and cladocerans, and juveniles consume copepods and euphausiids of all life stages (Sumida and Moser, 1984). Survival and subsequent recruitment of young rockfishes exhibit considerable interannual variability (Ralston and Howard, 1995). New recruits may be found in tide pool habitats, and shallow coastal waters associated with rocky bottoms and algae (Love, 1996; Sakuma and Ralston, 1995). Juvenile and subadults may be more common than adults in shallow water, and be associated with rocky reefs, kelp canopies, and artificial structures such a piers and oil platforms (Love et al., 2002). Adults generally move into deeper water as they increase in size and age (Garrison and Miller, 1982; Love, 1996), but generally exhibit strong site fidelity with rocky bottoms and outrcrops (Yoklavich et al., 2000). Adults eat demersal invertebrates and small fishes, including other species of rockfish, associated with kelp beds, rocky reefs, pinnacles, and sharp drop-offs (Love, 1996; Sumida and Moser, 1984). Many species of rockfishes are slow-growing, long-lived (50-140yrs; Archibald et al., 1981), and mature at older ages (6-12 yrs; Wyllie-Echeverria, 1987).

Bocaccio - Bocaccio range from Punta Blanca, Baja California, to the Gulf of Alaska off Krozoff and Kodiak Islands (Chen, 1971; Miller and Lea, 1972). They are most common within this range between Oregon and northern Baja California (Love et al., 2002). Bocaccio are most common between 50 and 250 m depth, but may be found as deep as 475 m (Orr et al., 2000). Bocaccio larvae have relatively high dispersal potential with a pelagic larval duration of approximately 155 days (Shanks and Eckert, 2005), and fecundity ranging from 20,000 to over 2 million eggs, considerably more than many other rockfish species (Love et al., 2002). Approximately 50 percent of adults mature in 4 to 6years (MBC, 1987). Adults are difficult to age, but are suspected to live as long as 50 years (Love et al., 2002).

Canary Rockfish - Canary rockfish range between Punta Colnett, Baja California, and the Western Gulf of Alaska (Boehlert, 1980; Mecklenburg et al., 2002). Within this range canary rockfish are most common off the coast of central Oregon (Richardson and Laroche, 1979). Canary rockfish primarily inhabit waters 50 to 250m deep (Orr et al., 2000), but may be found up to 425 m depth (Boehlert, 1980). Canary rockfish larvae have relatively high dispersal potential with a pelagic larval duration of approximately 116 days (Shanks and Eckert, 2005), and fecundity ranging from 260,000 to 1.9 million eggs, considerably more than many other rockfish species (Love et al., 2002). Approximately 50 percent of adults are mature at 35.6 cm (5 to 6 years of age) (Hart, 1973). Canary rockfish can live to be 75 years old (Love, 1996).

Greenstripe Rockfish - Greenstripe rockfish range from Cedros Island, Baja California, to Green Island in the Gulf of Alaska. Within this range greenstripe rockfish are common between British Columbia and Punta Colnett in Northern Baja California (Eschmeyer et al., 1983; Hart, 1973; Love et al., 2002). Greenstripe rockfish is a deep-water species that can inhabit waters from 52 to 828 m in depth, but is most common between 100 and 250 m depth (Orr et al., 2000). Estimates of pelagic larval duration and fecundity are not available for greenstripe rockfish to infer dispersal potential, although we expect that larval duration would be similar to or lower than that for bocaccio or canary rockfish (116-155 days; Varanasi, 2007). Approximately 50 percent of adults mature at 18-19 cm (Love et al., 1990). Male greenstripe rockfish can live to approximately 37 years of age, and females to approximately 28 years of age (Love et al., 1990).

Redstripe Rockfish - Redstripe rockfish occur from southern Baja California to the Bering Sea (Hart, 1973; Love et al., 2002). Redstripe rockfish have been reported between 12 and 425 m in depth, but 95 percent occur between 150 and 275 m (Love et al., 2002). Estimates of pelagic larval duration and fecundity are not available for redstripe rockfish to infer dispersal potential, although we expect that larval duration would be similar to or lower than that for bocaccio or canary rockfish (116-155 days; Varanasi, 2007). Approximately 50 percent of adults mature at 28-29 cm (Garrison and Miller, 1982), and may reach 55 years of age (Munk, 2001).

Yelloweye Rockfish - Yelloweye rockfish range from northern Baja California to the Aleutian Islands, Alaska, but are most common from central California northward to the Gulf of Alaska (Clemens and Wilby, 1961; Eschmeyer et al., 1983; Hart, 1973; Love, 1996). Yelloweye rockfish occur in waters 25 to 475 m deep (Orr et al., 2000), but are most commonly found between 91 to 180 m depth (Love et al., 2002). Approximately 50 percent of adults are mature by 41 cm length (about 6 years) (Love, 1996). Estimates of pelagic larval duration are not available for yelloweye rockfish, although we expect that it would be similar to or lower than that for bocaccio or canary rockfish (116-155 days; Varanasi, 2007). Fecundity ranges from 1.2 to 2.7 million eggs, considerably more than many other rockfish species (Love et al., 2002). Yelloweye rockfish are among the longest lived of rockfishes, living to be at least 118 years old (Love, 1996; O'Connell and Funk, 1986; Love et al., 2002).

Previous Rockfish Status Review and Petitions Received

In February 1999 we received a petition from Mr. Wright to list 18 species of marine fishes in Puget Sound under the ESA, including 14 species of rockfish. We issued a positive 90-day finding on June 21, 1999 (64 FR 33037), accepting the petition and initiating ESA status reviews for seven of the petitioned species, including three rockfish species (copper, brown and quillback rockfishes). For the remaining 11 petitioned rockfish species, which included the five rockfish species that are the subject of this notice, we found that there was insufficient information to evaluate stock structure, status and trends. Consequently, we did not accept the petition for these 11 species, finding that the petition failed to present substantial information to suggest that listing these species in Puget Sound may be warranted.

In 2001 we convened a Biological Review Team (BRT) to evaluate the population structure and biological status of the three rockfish species accepted for review. The BRT concluded that the brown, copper and quillback rockfishes in Puget Sound Proper (defined as east of Deception Pass and to the south and east of Admiralty Head, encompassing southern Puget Sound, Whidbey Basin, Hood Canal, and the main Basin) constitute DPSs for consideration as “species” under the ESA (Stout et al., 2001). On April 3, 2001, we concluded that these DPSs did not warrant listing as threatened or endangered species (66 FR 17659). Although these DPSs had experienced declines over the last 40 years, likely due to overharvest, we noted that the populations appeared stable over the most recent 5 years.

In September 2006, we received another petition from Mr. Wright to list the Puget Sound DPSs of copper and quillback rockfishes as endangered or threatened species under the ESA. The petition did not include new data or information regarding the abundance, trends, productivity, or distribution for these species. The petitioner criticized the risk assessment methods of the 2001 BRT and disagreed with our conclusion that the two DPSs did not warrant listing. The petitioner criticized the findings of the 2001 BRT for inadequately considering the loss of age structure and longevity in rockfish populations due to overfishing, and, consequently, for underestimating the extinction risk of these rockfish DPSs. The petitioner also criticized the management of rockfish fisheries by the Washington Department of Fish and Wildlife (WDFW). In a finding published in January 2007, we determined that the September 2006 petition from Mr. Wright failed to present substantial scientific and commercial information to suggest that the ESA listing of copper and quillback rockfishes in Puget Sound may be warranted (72 FR 2863; January 23, 2007). We disagreed with the petitioner that the risk assessment methods employed by the 2001 BRT were flawed. The risk assessment methods employed by the 2001 BRT were similar in nature to those used in numerous other ESA status reviews over the last 16 years. This approach utilizes a diversity of expertise and perspectives and applies a consistent and transparent methodology to evaluate the best available scientific data and analyses, including both quantitative and qualitative information. Details regarding the risk assessment methods used by BRT are provided in the 2001 status review which is available online (see http://www.nmfs.noaa.gov/pr/species/statusreviews.htm). With respect to the consideration of age structure and longevity in rockfish populations, we acknowledged the potential significance of laboratory studies suggesting the importance of these factors in evaluating the extinction risk of rockfish populations (essentially, that the oldest and largest females may be particularly important to population viability by producing larvae with greater average survival than larvae from younger females). However, we noted that the importance of this “maternal-age effect” in the wild depends upon the age structure and age-at-maturity of the populations under consideration (see 72 FR at 2865 for further discussion). We noted that the necessary data to evaluate the actual importance of the maternal-age effect for the two petitioned rockfish species in Puget Sound was not available, and that other published studies on closely related rockfish species indicated that it is unlikely that the maternal-age effect would alter the conclusions of the 2001 status review (Varanasi, 2006). We also recognized that the petitioner believes that WDFW could enact regulations to further protect Puget Sound rockfish stocks. However, the fishing regulations the petitioner criticizes represent a reduction from previous fishing levels, and do not portend an increasing threat due to fishing for rockfish stocks in Puget Sound.

Analysis of the April 2007 Petition

We evaluated the information provided and/or cited in Mr. Wright's recent petition to determine if it presents substantial scientific and commercial information to suggest that petitioned actions may be warranted. Our Northwest Fisheries Science Center (NWFSC) reviewed the scientific information in the recent petition that was not previously evaluated for the September 2006 petition (Varanasi, 2007) or addressed in our January 2007 petition finding (72 FR 2863; January 23, 2007). Specifically, we considered: (1) whether the petition presents substantial information indicating that these five rockfish species in Puget Sound may warrant delineation as DPSs; and, if delineation of Puget Sound DPSs may be warranted, (2) whether the petition presents substantial information indicating that such DPSs may be “threatened” or “endangered.” Below, our summary and analysis of the information presented in the recent petition is organized by these two inquiries.

Does the Petition Present Substantial Information Indicating That These Five Rockfish Species in Puget Sound May Warrant Delineation as DPSs?

Under the 1996 joint DPS policy, a population or group of populations is considered a DPS if it is “discrete” and “significant” to the remainder of the species to which it belongs (51 FR 4722; February 7, 1996). The petitioner contends that the five petitioned species likely warrant delineation as Puget Sound DPSs based on: (1) relatively closed oceanographic circulation patterns in the Puget Sound area (see Stout et al., 2001, at p. 75) that should promote the retention of rockfish larvae originating within Puget Sound, and limit the delivery of larvae from sources external to Puget Sound; and (2) NMFS' finding in 2001 that brown, copper, and quillback rockfishes in Puget Sound respectively warranted delineation as DPSs (Stout et al., 2001; 66 FR 17659, April 3, 2001). Although the five petitioned rockfish species may be considered to have high dispersal “potential” due to their long pelagic larval duration and high fecundity, their realized larval dispersal is determined to a large extent by local oceanographic patterns and larval behavior (Varanasi, 2007). Since the larvae of these rockfish species are generally associated with surface waters during the pelagic dispersal phase, we agree with the petitioner that the relatively closed circulation patterns of surface waters in Puget Sound lends support to the “discreteness” of these species in Puget Sound. Although, as the petitioner acknowledges, there are no population genetic studies of the five petitioned species that include samples from Puget Sound, the available studies of West Coast rockfish suggest that it is reasonable to suspect that there are genetically discrete Puget Sound population segments for these species. There are examples of rockfish populations exhibiting genetic differences in relation to circulation patterns and biogeographic barriers, many of which are probably less restrictive to trans-boundary larval dispersal than the entrance to Puget Sound (Sekino et al., 2001; Varanasi, 2007). Even on the open coast where one might expect oceanographic patterns to result in considerable larval exchange and strong genetic similarities among stocks, the available genetic studies indicate that rockfish species exhibit some level of genetic population structure (Buonaccorsi et al., 2002, 2005; Cope, 2004; Rocha-Olivares and Vetter, 1999). One of the petitioned species, bocaccio, also exhibits genetic population structure on the open coast (Matala et al., 2004), and it is reasonable to assume the it would also show some genetic isolation within Puget Sound relative to other areas (Varanasi, 2007). Genetic studies that include samples from Puget Sound have found that rockfish populations in Puget Sound are generally distinct from populations sampled in other geographic areas (Buonaccorsi et al., 2002, 2005). Based on the above information, it is plausible that the five petitioned species in Puget Sound satisfy the “discreteness” criterion under the joint-DPS policy (Varanasi, 2007).

In addition to the “discreteness” element a population must also be “significant” to be delineated as a DPS. As noted above, the petitioner contends that the five petitioned rockfish species are likely DPSs based on our 2001 DPS delineations for brown, copper, and quillback rockfishes in Puget Sound (Stout et al., 2001). These three species were found to be “significant” based on unique environmental, geological, biogeographic factors, and likely adaptive life-history differences (e.g., coloration patters, mating behaviors, or timing of reproduction). NWFSC's review of the petition found no biological reason why brown, copper, and quillback rockfishes in Puget Sound would satisfy the “significance” criterion and the five petitioned species would not (Varanasi, 2007). Accordingly we find it reasonable that the five petitioned species in Puget Sound may warrant delineation as DPSs.

Does the Petition Present Substantial Information Indicating That the Hypothesized DPSs May Be “Threatened” or “Endangered?”

Information Considered in the September 2006 Petition

The information provided by the petitioner concerning extinction risk is largely similar in substance to the petition submitted in September 2006, except for the inclusion of approximately 12 years of recreational catch data (see discussion of Recreational Fishery Data below). The petitioner repeats criticisms of our 2001 status review from the September 2006 petition. While the 2001 status review did not encompass the five species included in the April 2007 petition, the same methods would likely be used in a future status review for these species, should one be warranted. (The reader is referred to our earlier petition finding (72 FR at 2864; January 23, 2007) for further discussion of the petitioner's criticisms of the 2001 BRT's risk assessment methods). The recent petition again stresses the importance of age structure, longevity, and the maternal-age effect in evaluating the extinction risk of rockfish populations. (The reader is again referred to our earlier petition finding (72 FR at 2865; January 23, 2007) for further discussion of the maternal-age effect and related scientific publications). The petitioner disagrees with our discussion of the maternal-age effect in our earlier petition finding (72 FR 2865; January 23, 2007), feeling that we disregarded its potential importance to evaluating the risks faced by Puget Sound rockfish populations. The petitioner feels that we dismissed these laboratory studies because they focused on rockfish species other than those petitioned. As noted in our previous petition finding, we concluded that the importance of this maternal-age effect in the wild depends upon the age structure and age-at-maturity of the specific populations under consideration (72 FR 2865; January, 23, 2007). We are in agreement with the statement in the recent petition that “the important parameter is simply the percentage of the spawning population composed of smaller females ...” As was the case in our finding on the September 2006 petition, the necessary data is not available to evaluate the actual importance of the maternal-age effect for the five recently petitioned rockfish species. The petitioner's statements that we do not fully appreciate the maternal-age effect do not represent substantial scientific or commercial information indicating that the five petitioned species may warrant ESA listing.

Recreational Fishery Data

The April 2007 petition provides recreational catch data for the five petitioned species spanning approximately 12 years in the mid-1970s to mid-1990s. NWFSC's recent review (Varanasi, 2007) notes that although these data might suggest possible declines for three of the species (bocaccio, greenstripe, and red stripe rockfishes) and a lack of decline for the other two species (canary and yelloweye rockfish), the support for making any inferences regarding populations status is weak. Neither the petition nor NMFS' files contain information, for example, regarding the level or distribution of fishery effort, changes in fisheries practices, or changes in regulations governing fisheries in which the petitioned species are taken as bycatch. Because the five petitioned DPSs occur solely within state-managed waters, WDFW may have data relevant to these issues, though we do not know whether or to what extent such information has been collected and evaluated by WDFW. While NMFS does have some recreational fishing data within its agency files, no such information as it relates to the five petitioned rockfish species within Puget Sound waters is available. Without this additional information it is not possible to determine whether the recreational catch data reflect population status. We conclude that the recreational catch and other anecdotal information in the petition do not represent “substantial scientific or commercial” information that would lead a reasonable person to believe that the status of the petitioned species may be at risk.

Fishery Management Concerns

The petitioner reiterates concerns presented in the September 2006 petition that WDFW's fishery regulations inadequately protect Puget Sound rockfish stocks. In particular, the petitioner criticizes WDFW's reduction in 2000 of the daily bag limit for rockfish to one fish, the establishment of voluntary no-take marine reserves, and the 2004 regulation restricting spear and recreational fishing for rockfish to periods when fisheries are open for lingcod and hatchery Chinook salmon. We recognize that the petitioner believes that WDFW could enact regulations to further protect Puget Sound rockfish stocks. However, the fishing regulations the petitioner criticizes represent a reduction from previous fishing levels, and do not portend an increasing threat due to fishing bycatch and mortality.

The petitioner is particularly concerned that the production of hatchery Chinook salmon in Puget Sound negatively affects rockfish stocks through the competition for limited food resources. The petitioner also feels that harvest directed at hatchery Chinook salmon results in significant bycatch of rockfish. However, he has presented no information in the petition to provide support for these contentions.

Petition Finding

After reviewing the information contained in the petition, as well as information readily available to our scientists, we determine that the petition fails to present substantial scientific or commercial information indicating the petitioned actions may be warranted.

References Cited

A complete list of all references is available upon request from the Protected Resources Division of the NMFS Northwest Regional Office (see ADDRESSES).

Authority: 16 U.S.C. 1531 et seq.

Dated: October 1, 2007.
Samuel D. Rauch III,
Deputy Assistant Administrator for Regulatory Programs, National Marine Fisheries Service.

[FR Doc. E7-19743 Filed 10-4-07; 8:45 am]

BILLING CODE 3510-22-S